DEPARTMENT OF HEALTH AND HUMAN SERVICES

Centers for Disease Control and Prevention

[Program Announcement 00132]

Cooperative Agreement to the Joint United Nations Programme on HIV/AIDS (UNAIDS); Notice of the Availability of Funds

A. Purpose

The Centers for Disease Control and Prevention (CDC), National Center for HIV/STD/TB Prevention (NCHSTP), announces the availability of funds for fiscal year (FY) 2000 for a sole source cooperative agreement with the Joint United Nations Programme on HIV/AIDS (UNAIDS).

The purpose of this agreement is to help support and ensure implementation of the Leadership and Investment in Fighting an Epidemic (LIFE) Initiative, a United States Government program that seeks to reduce the impact of HIV/AIDS in sub-Saharan African countries and India by strengthening the capacity of national AIDS control programs in the areas of (1) HIV primary prevention, (2) HIV care, support, and treatment, and (3) capacity and infrastructure development. At present, those countries are Botswana, Cote D'Ivoire, Kenya, South Africa, Uganda, Rwanda, Zimbabwe, Ethiopia, Mozambique, Malawi, Tanzania, Nigeria, Senegal, Zambia and India. The countries targeted represent those with the most severe epidemic and the highest number of new infections. They also represent countries where the potential for impact is greatest and where U.S. government agencies are already active.

This agreement supports a framework of interventions, grounded in a series of goals and objectives consistent with those established for the international community by UNAIDS in support of the International Partnership Against AIDS in Africa (IPAA).

According to recent estimates from UNAIDS and the World Health Organization (WHO), 32.4 million adults and 1.2 million children will be living with HIV by the end of 1999. Of the total estimate, approximately 23.3 million (69% of the total world-wide) adults and children are living with AIDS in sub-Saharan Africa alone. Of that total, approximately 3.8 million adults and children represent those newly infected with HIV in 1999. India carries the majority of the burden associated with an additional 1.3 million adults and children newly infected with HIV in 1999. As a key partner in the U.S. Government's LIFE Initiative, CDC, through its Global AIDS Activity (GAA), is working in a collaborative manner with national governments, USAID and other Federal agencies, and other international donor agency partners to develop programs of assistance to address the HIV/AIDS epidemic in LIFE Initiative countries.

B. Eligible Applicants

Assistance will be provided only to the Joint United Nations Programme on HIV/AIDS (UNAIDS) in support of the LIFE Initiative. No other applications will be solicited.

UNAIDS is the most appropriate and qualified agency to conduct the activities under this cooperative agreement because:

1. As the Joint Programme for the entirety of the United Nations' efforts in the HIV/AIDS arena, UNAIDS is uniquely positioned to assist national AIDS control programs and other public health partners in development of capacity for HIV prevention and care.

2. UNAIDS is spearheading the International Partnership Against HIV/AIDS (IPAA) in Africa, an international umbrella effort to increase support and visibility for a multi-lateral emergency response to the AIDS epidemic in Africa. The LIFE Initiative is a key supporter of the IPAA.

3. The UNAIDS Secretariat currently administers a “multi-bi” instrument, the Programme Acceleration Fund (PAF), a mechanism for allocating resources through multiple UN Executing Agencies for multiple purposes in multiple countries, including those designated under the LIFE Initiative (UN Executing Agencies in countries are primarily the Cosponsoring Agencies of UNAIDS; World Health Organization (WHO), United Nations Children’ Fund (UNICEF), United Nations Fund for Population Activities (UNFPA), United Nations Development Programme (UNDP), United Nations Education, Scientific and Cultural Organization (UNESCO), United Nations Drug Control Programme (UNDCP), and the World Bank.

4. UNAIDS, has the primary responsibility to foster expanded national responses to the epidemic, to promote strong commitments by governments to an expanded response, to strengthen and coordinate the United Nation’ action of HIV/AIDS at the global and national levels, and to identify, develop and advocate international best practice.

C. Availability of Funds

Approximately $2,000,000 dollars is available in FY 2000 to fund this project. It is anticipated that the award will begin on September 30, 2000, and will be made for a 12-month budget period within a project period of up to five years. Funding estimates may vary and are subject to change.

Continuation awards within the project period will be made on the basis of satisfactory progress and availability of funds.

Use of Funds

General Use

Funds may be used for strengthening the technical capacity of national AIDS control programs, the purchase of drugs for primary prevention (e.g., Sexually Transmitted Diseases (STD) and Tuberculosis (TB) treatment, prevention of perinatal HIV transmission, and other opportunistic infections related to AIDS illness) and for equipment, supplies and reagents for rapid screening for HIV and STDs, and in support of the delivery of HIV prevention and care and treatment services.

General Non-Use

Funds received from this announcement will not be used for capital expenditures such as the purchase of off-road and multi-passenger vehicles, large volume (greater than 50) purchase of computers and data storage systems, space renovations and other significant improvements to physical environments where activities are carried out.

Specific Non-Use

Funds received from this announcement will not be used for the direct purchase of antiretroviral drugs for treatment of established HIV infection, occupational exposures, and non-occupational exposures and will not be used for the direct purchase of equipment and reagents to conduct hospital-based laboratory monitoring for patient care or confirmatory tests.

D. Submission and Deadline

Submit the original and two copies of PHS 5161 (OMB Number 0937-0189). Forms are in the application kit.

On or before September 15, 2000 submit the application to the Grants Management Specialist identified in the “Where to Obtain Additional Information” section of this announcement.

E. Where To Obtain Additional Information

This and other CDC announcements can be found on the CDC home page Internet address—http://www.cdc.gov. Scroll down the page, then click on “Funding” then “Grants and Cooperative Agreements.”

To receive additional written information and to request an application kit, call 1-888-GRANTS (1-888 472-6874). You will be asked to leave your name and address and will be instructed to identify the Announcement number of interest.

If you have questions after reviewing the contents of all the documents, business management technical assistance may be obtained from: Roslyn Curington, Grants Management Specialist, Centers for Disease Control and Prevention (CDC), Procurement and Grants Office, Room 3000, 2920 Brandywine Road, Mailstop E-15, Atlanta, GA 30341-4146, Telephone: (770) 488-2767, E-mail: zlp8@cdc.gov.

For program technical assistance, contact: Leo Weakland, Deputy Coordinator, Global AIDS Activity (GAA), National Center for HIV, STD, and TB Prevention, Centers for Disease Control and Prevention (CDC), 1600 Clifton Road, Mailstop E-07, Atlanta, GA 30333, Telephone number (404) 639-8016, Email address: lfw0@cdc.gov.

Dated: August 14, 2000.
John L. Williams,
Director, Procurement and Grants Office, Centers for Disease Control and Prevention.

[FR Doc. 00-21049 Filed 8-17-00; 8:45 am]

BILLING CODE 4163-18-P